DEPARTMENT OF TRANSPORTATION

Federal Aviation Administration

14 CFR Part 15

Administrative Claims Under Federal Tort Claims Act

CFR Correction

In Title 14 of the Code of Federal Regulations, Parts 1 to 59, revised as of January 1, 2003, in § 15.3, on page 78, add paragraph (c) to read as follows:

§ 15.3 Administrative claim, when presented; appropriate office.

* * * * *

(c) Claim forms are available at each location listed in paragraph (b) of this section.

* * * * *

[FR Doc. 03-55521 Filed 8-13-03; 8:45 am]

BILLING CODE 1505-01-D